DEPARTMENT OF STATE

[Delegation of Authority No. 557]

Redelegation of Authority to the Principal Deputy Assistant Secretary for Educational and Cultural Affairs and to the Deputy Assistant Secretary for Private Sector Exchange

ACTION: Delegation of authority.

SUMMARY: The State Department is publishing a Delegation of Authority signed by the Assistant Secretary for Educational and Cultural Affairs on May 6, 2024.

SUPPLEMENTARY INFORMATION: Lee A. Satterfield, Assistant Secretary for Educational and Cultural Affairs, signed the following “Redelegation of Authority to the Principal Deputy Assistant Secretary for Educational and Cultural Affairs and to the Deputy Assistant Secretary for Private Sector Exchange” on May 6, 2024. The State Department maintains the original document.

(Begin text.)

Redelegation of Authority to the Principal Deputy Assistant Secretary for Educational and Cultural Affairs and to the Deputy Assistant Secretary for Private Sector Exchange.

By virtue of the authority vested in me and in accordance with Delegation of Authority No. 236-3, dated August 28, 2000, I hereby re-delegate to the Principal Deputy Assistant Secretary for Educational and Cultural Affairs and to the Deputy Assistant Secretary for Private Sector Exchange, the authority to exercise the following-described authorities:

1. To the Principal Deputy Assistant Secretary for Educational and Cultural Affairs, the functions in section 102 of the Mutual Educational and Cultural Exchange Act of 1961, as amended (22 U.S.C. 2452) (relating to the provision by grant, contract or otherwise for a wide variety of educational and cultural exchanges), sections 101(a)(15)(J) and 212(j) of the Immigration and Nationality Act (8 U.S.C. 1101(a)(15)(J) and 1182(J)), and Division C, Title VI, Subtitle D, section 641 of Public Law 104-208 (8 U.S.C. 1372(h)(2)(A)) (relating to the designation of exchange visitor programs and related functions) as they relate to:

a. The suspension or revocation of responsible officers and the suspension, revocation, or denial of redesignation of exchange visitor programs;

b. The promulgation of regulations and issuance of policy guidance governing the Exchange Visitor Program; and

c. The performance of any other duties of the Principal Deputy Assistant Secretary identified in 2 CFR 62.50.

2. To the Deputy Assistant Secretary for Private Sector Exchange, the functions in section 102 of the Mutual Educational and Cultural Exchange Act of 1961, as amended (22 U.S.C. 2452) (relating to the provision by grant, contract or otherwise for a wide variety of educational and cultural exchanges), sections 101(a)(15)(J) and 212(j) of the Immigration and Nationality Act (8 U.S.C. 1101(a)(15)(J) and 1182(J)), and section 641 of Public Law 104-208 (8 U.S.C. 1372(h)(2)(A)) (relating to the designation of exchange visitor programs and related functions) as they relate to:

a. Designation, denial of designation, and redesignation of exchange visitor programs;

b. The promulgation of regulations (and issuance of policy guidance) governing the Exchange Visitor Program; and

c. All other Exchange Visitor Program matters not otherwise addressed in the Exchange Visitor Program regulations.

In exercising this authority, the Deputy Assistant Secretary for Private Sector Exchange shall consult, as necessary, with the Principal Deputy Assistant Secretary for Educational and Cultural Affairs.

The Assistant Secretary and Under Secretary for Public Diplomacy and Public Affairs retain, and may at any time exercise, any function or authority redelegated herein.

All actions related to the responsibilities described herein which have been taken pursuant to any authority delegated prior to this Order or delegated by this Order, and which have been taken prior to and are in effect on the date of this Order, are hereby confirmed and ratified. Such actions shall remain in force as if taken under this Order, unless or until rescinded, amended or superseded.

This delegation supersedes ECA Delegation of Authority 239 (March 10, 2000). This delegation does not rescind any existing delegation of authority pertaining to section 102 of the Mutual Educational and Cultural Exchange Act of 1961, as amended (22 U.S.C. 2452).

This document shall be published in the Federal Register.

(End text.)

Kevin E. Bryant,
Deputy Director, Office of Directives Management, Department of State.

[FR Doc. 2024-10382 Filed 5-10-24; 8:45 am]

BILLING CODE 4710-05-P